NUCLEAR REGULATORY COMMISSION

[NRC-2009-0013]

Safety Culture Policy Statement Development: Public Meeting and Request for Public Comments; Correction

AGENCY: Nuclear Regulatory Commission.

ACTION: Correction.

SUMMARY: This document corrects a notice appearing in the Federal Register on January 23, 2009 (74 FR 4260), that informs the public of the public meeting and Request for Comments on topics relating to the development of the policy statement. In addition to announcing the public meeting, the NRC is using this notice to request comments on the topics discussed in this notice. These topics can be found in section D (Topics for Discussion of the Supplementary Information).

FOR FURTHER INFORMATION CONTACT: June Cai at (301) 415-5192; june.cai@nrc.gov.

SUPPLEMENTARY INFORMATION: On page 4262, column 1, in the fourth complete paragraph, in the 17th line, is corrected to delete “Some of the questions use terminology such as ‘your organization,’ but input from individual stakeholders who may not be part of a specific organization in the topic area are requested as well.”

On page 4262, column 1, in the seventh paragraph, in the 46th line, is corrected to read: “How do you generally view the relationship or hierarchy between safety and security functions and decision making”?

On page 4262, column 1, in the eighth paragraph, in the 61st line, is corrected to read: “Are there any other examples where efforts to maintain safety and security require different approaches or result in competing outcomes that need to be addressed to achieve the desired outcome or goal”?

Dated at Rockville, Maryland, this 23rd day of January 2009.
For the Nuclear Regulatory Commission.
Stewart L. Magruder,
Deputy Director, Office of Enforcement.

[FR Doc. E9-1902 Filed 1-28-09; 8:45 am]

BILLING CODE 7590-01-P